DEPARTMENT OF TRANSPORTATION

National Highway Traffic Safety Administration

[Docket No. NHTSA-2018-0078]

Agency Information Collection Activities; Submission to the Office of Management and Budget for Review and Approval; Request for Comment; Pediatric Shoulder Response in Frontal Loading

AGENCY: National Highway Traffic Safety Administration, DOT.

ACTION: Notice and request for comments.

SUMMARY: In compliance with the Paperwork Reduction Act of 1995 this notice announces that the Information Collection Request (ICR) abstracted below is being forwarded to the Office of Management and Budget (OMB) for review and comments. A Federal Register Notice with a 60-day comment period soliciting comments on the following information collection was published on September 12, 2018 (83 FR 19836).

DATES: Written comments should be submitted on or before June 3, 2019.

ADDRESSES: Send comments to the Office of Information and Regulatory Affairs, Office of Management and Budget, 725-17th Street NW, Washington, DC 20503, Attention: NHTSA Desk Officer.

FOR FURTHER INFORMATION CONTACT: For additional information or access to background documents, contact Jason Stammen, Applied Biomechanics Division, Vehicle Research and Test Center, NHTSA, 10820 State Route 347—Bldg. 60, East Liberty, Ohio 43319; Telephone (937) 666-4511; Facsimile: (937) 666-3590; email address: jason.stammen@dot.gov.

SUPPLEMENTARY INFORMATION: Before a Federal agency can collect certain information from the public, it must receive approval from the Office of Management and Budget (OMB). In compliance with these requirements, this notice announces that the following information collection request has been forwarded to OMB. On September 12, 2018,¹ NHTSA published a 60-day notice requesting public comment on the proposed collection of information. No comments were received.

¹ 83 FR 19836 (September 12, 2018).

Title: Pediatric Shoulder Response in Frontal Loading.

OMB Control Number: New Collection.

Form Numbers: None.

Type of Request: New Information Collection.

Type of Review: Regular.

Abstract: NHTSA proposes to collect information from the public to support the development of design criteria for the mobility of the shoulder of a new child-size crash test dummy. Minors age 6-14 will participate after informed consent of the parent/guardian is received. After researchers measure the participant's anthropometry (height, weight, shoulder landmarks, etc.), the participant will undergo a fun, low-intensity exercise activity under the direction of the researchers while the parent/guardian observes. The activity will involve motion of the participant's shoulder while resisting forces are collected. The data from all participants will then be compiled to develop design criteria for the crash test dummy shoulder.

Respondents: Web-based and print newspaper advertisements will be used to obtain respondents who are parent/guardian of minors aged 6-14 years.

Estimated Number of Respondents: It is estimated that a total of 24 individuals will complete the research activity.

Estimated Time per Response: Completion of the screening questions is estimated to take approximately 5 minutes for the first set and 10 minutes for the second set. The simulator discomfort questionnaire is estimated to take 2 minutes per participant.

Total Estimated Burden: 24 total hours, 1 hour per participant.

Frequency of Collection: The data collections described will be performed once to obtain the target number of valid test participants.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information.

Authority: The Paperwork Reduction Act of 1995; 44 U.S.C. Chapter 35, as amended; and 49 CFR 1.95.

Issued in Washington, DC, on April 23, 2019.
Tim J. Johnson,
Acting Associate Administrator, Office of Vehicle Safety Research.

[FR Doc. 2019-09088 Filed 5-2-19; 8:45 am]

BILLING CODE 4910-59-P